DEPARTMENT OF ENERGY

Federal Energy Regulatory Commission

Notice of Application Tendered for Filing With the Commission and Soliciting Additional Study Requests

June 26, 2002.

a. Type of Application: Original Major License.

b. Project No.: P-12187-000.

c. Date Filed: June 3, 2002.

d. Applicant: Price Dam Partnership, Limited.

e. Name of Project: Price Dam Hydroelectric Project.

f. Location: On the Mississippi River, in the city of Alton, Wood River Township, Madison County, Illinois. The project would be constructed on the U.S. Corps of Engineers (Corps) Melvin Price Locks & Dam and the nearby Illinois shoreline of the Mississippi River and would affect 7.8 acres of federal lands (including federal Corps property between Piers 1 to 11 at the dam and a portion of the Illinois shoreline for the transmission line).

g. Filed Pursuant to: Federal Power Act 16 U.S.C. 791(a)-825(r).

h. Applicant Contact: James B. Price, W.V. Hydro, Inc., P.O. Box 903, Gatlinburg, TN 37738, (865) 436-0402, or jimprice@atlantic.net.

i. FERC Contact: Lee Emery (202) 219-2778 or lee.emery@FERC.fed.us.

j. Cooperating agencies: We are asking Federal, state, local, and tribal agencies with jurisdiction and/or special expertise with respect to environmental issues to cooperate with us in the preparation of the environmental document. Agencies who would like to request cooperating status should follow the instructions for filing comments described in item k below.

k. Deadline for filing additional study requests and requests for cooperating agency status: July 30, 2002.

All documents (original and eight copies) should be filed with: Magalie R. Salas, Secretary, Federal Energy Regulatory Commission, 888 First Street, NE., Washington, DC 20426.

The Commission's Rules of Practice require all interveners filing documents with the Commission to serve a copy of that document on each person on the official service list for the project. Further, if an intervener files comments or documents with the Commission relating to the merits of an issue that may affect the responsibilities of a particular resource agency, they must also serve a copy of the document on that resource agency.

Additional study requests and requests for cooperating agency status may be filed electronically via the Internet in lieu of paper. See 18 CFR 385.2001(a)(1)(iii) and the instructions on the Commission's web site (http://www.ferc.gov) under the “e-Filing” link.

l. This application is not ready for environmental analysis at this time.

m. Description of Project: The proposed Price Dam Project would use the Melvin Price Locks & Dam and reservoir, and would consist of the following facilities: (1) 192 portable, turbine/generator units grouped in six steel modules 108.9 feet long by 26.2 feet wide by 44.0 feet high, (a) each module contains 32 turbine/generator sets (two horizontal rows of 16 units each) installed in six stoplog slots on adjacent piers upstream from the nine existing Taintor gate bays in the dam, and (b) each turbine/generator unit includes a 550 kilowatt bulb-type generator, a fixed-blade propeller turbine, and a single draft tube for each two turbine/generating units; (2) six flexible power cables, each connecting the six, 32 turbine/generator sets to six 7.2 kilovolt (kV) transformer and breaker sets on an adjacent pier; (3) lifting access columns at the end of each module; (4) six air-operated spillway gates, 7 feet high by 96 feet long, installed on top of each module with each gate containing an inflatable rubber bladder; (5) a hallway housing the station service transformer, motor control center, and control system; (8) a slave terminal at the lockmaster's office and a control station located on the dam superstructure; (9) a 6.9-kV/138-kV step-up transformer located on a platform on the dam axis at elevation 479 feet National Geodetic Vertical Datum; (10) a mobile, 1,000 metric ton crane with an auxiliary crane riding on top of the module crane; these cranes would lower and raise the power modules and operate the trash rake; (11) a fish bypass on each module; (12) a trashrack assembly with a two-inch clear spacing between the bars, and a crane-operated trash rake; (13) a 500-kilowatt generator; (14) a 0.9-mile-long, 138-kV transmission line connecting the project power to the Mississippi Substation of Ameren, Incorporated; (15) an auxiliary building; and (16) appurtenant facilities. The average annual generation is estimated to be 319,000 megawatt-hours. All generated power would be sold to a local utility connected to the grid.

n. With this notice, we are initiating consultation with the ILLINOIS HISTORIC PRESERVATION OFFICER (SHPO), as required by § 106, National Historic Preservation Act, and the regulations of the Advisory Council on Historic Preservation, 36 CFR 800.4.

o. A copy of the application is on file with the Commission and is available for public inspection. This filing may also be viewed on the web at http://www.ferc.gov using the “RIMS” link—select “Docket #” and follow the instructions (call 202-208-2222 for assistance). A copy is also available for inspection and reproduction at the address in item h above.

p. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later July 30, 2002, and serve a copy of the request on the applicant.

q. Procedural schedule: The application will be processed according to the following milestones, some of which may be combined to expedite processing.

Notice of application has been accepted for filing

Notice of NEPA Scoping (unless scoping has already occurred)

Notice of application is ready for environmental analysis

Notice of the availability of the draft NEPA document

Notice of the availability of the final NEPA document

Order issuing the Commission's decision on the application

Linwood A. Watson, Jr.,
Deputy Secretary.

[FR Doc. 02-16620 Filed 7-1-02; 8:45 am]

BILLING CODE 6717-01-P